DEPARTMENT OF COMMERCE

National Oceanic and Atmospheric Administration

RIN 0648-XD903

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Endangered Species Workgroup will hold a meeting, which is open to the public.

DATES: The meeting will occur May 19-21, 2015. The meeting will begin at 1 p.m. Tuesday, May 19 and at 9 a.m. on Wednesday and Thursday, May 20-21.

ADDRESSES: The meeting will be held at the Regional Administrator's Conference Room, Building 1, National Oceanic and Atmospheric Administration, Western Regional Center, 7600 Sand Point Way NE., Seattle, WA 98115-6349, telephone: (206) 526-6150.

Council address: Pacific Council, 7700 NE Ambassador Place, Suite 101, Portland, OR 97220-1384.

FOR FURTHER INFORMATION CONTACT: Ms. Sarah Williams, NMFS, Sarah.Williams@noaa.gov; telephone: (206) 526-4646.

SUPPLEMENTARY INFORMATION: The primary purpose of the meeting is to review information on take of species listed under the Endangered Species Act (ESA) in the Pacific Coast groundfish fishery (other than salmonids) and provide recommendations to the Pacific Council on any additional mitigation measures needed, if any, to meet the requirements of the ESA as implemented through the terms and conditions in the most recent biological opinion for the fishery.

You may also join this meeting by conference line and webinar. To join by phone, participants should dial 888-790-6085, passcode 1730793. To join by webinar, each day of the meeting requires a different Web address. On May 19, participants can join Meeting ID: 544-685-613 at https://global.gotomeeting.com/join/544685613. On May 20, participants can join Meeting ID: 991-327-765 at https://global.gotomeeting.com/join/991327765. On May 21, participants can join Meeting ID: 845-869-013 at https://global.gotomeeting.com/join/845869013. Once you have joined the webinar, choose either your computer's audio or select “Use Telephone.” If you do not select “Use Telephone” you will be connected to audio using your computer's microphone and speakers (VolP). If you do not have a headset and speakers, you may use the conference line number by dialing 1-888-790-6085, and entering passcode 1730793 at the prompt.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2425 at least 5 days prior to the meeting date.

Dated: April 27, 2015.
Tracey L. Thompson,
Acting Deputy Director, Office of Sustainable Fisheries, National Marine Fisheries Service.

[FR Doc. 2015-10080 Filed 4-29-15; 8:45 am]

BILLING CODE 3510-22-P